DEPARTMENT OF THE INTERIOR

National Park Service

Draft Legislative Environmental Impact Statement, Timbisha Shoshone Homeland In and Around Death Valley National Park; Notice of Extension of Public Comment Period

SUMMARY: Pursuant to § 102(2)(C) of the National Environmental Policy Act of 1969 (Public Law 91-190 as amended), the National Park Service, Department of the Interior, has prepared a Draft Legislative Environmental Impact Statement (LEIS) assessing potential impacts of Congress establishing a proposed Timbisha Shoshone Tribal Homeland in and around Death Valley National Park, California. The Draft LEIS identifies parcels of land suitable for the Timbisha Shoshone Indian Tribe to establish a permanent homeland. In deference to public interest expressed to date from local governmental agencies, organizations, and other interested parties, the original 60-day public comment period has been extended an additional 10 calendar days from the original July 22, 2000 deadline.

SUPPLEMENTARY INFORMATION: Interested individuals, organizations, and agencies are encouraged to provide written comments—to be considered any response must now be postmarked no later than August 1, 2000.

All responses should be addressed to the Superintendent, Death Valley National Park, P.O. Box 579, Death Valley, California 92328. If individuals submitting comments request that their name or/and address be withheld from public disclosure, it will be honored to the extent allowable by law. Such requests must be stated prominently in the beginning of the comments. There also may be circumstances wherein the NPS will withhold a respondent's identity as allowable by law. As always: NPS will make available to public inspection all submissions from organizations or businesses and from persons identifying themselves as representatives or officials of organizations and businesses; and, anonymous comments may not be considered.

To obtain a copy of the LEIS please contact Bettie Blake at (760) 786-3243. All other questions can be directed to Joan DeGraff at (760) 255-8830.

Dated: June 16, 2000.
John J. Reynolds,
Regional Director, Pacific West Region.

[FR Doc. 00-16094 Filed 6-23-00; 8:45 am]

BILLING CODE 4310-70-P